DEPARTMENT OF TRANSPORTATION

Federal Aviation Administration

14 CFR Part 71

[Docket No. FAA-2002-13247; Airspace Docket No. 02-AAL-5]

RIN 2120-AA66

Proposed Modification and Revocation of Federal Airways; AK

AGENCY: Federal Aviation Administration (FAA), DOT.

ACTION: Notice of proposed rulemaking (NPRM); withdrawal.

SUMMARY: This action withdraws the notice of proposed rulemaking (NPRM) published in the Federal Register on November 7, 2002. In that action, the FAA proposed to modify one jet route (J-133); and revoke one jet route 711 (J-711) in Alaska. The FAA has decided to withdraw the proposed rule since the Hinchinbrook Nondirectional Radio Beacon (NDB) is being decommissioned. The replacement of the Hinchinbrook NDB and the revision of several airways in Alaska will be reflected in a subsequent NPRM.

FOR FURTHER INFORMATION CONTACT: Ken McElroy, Office of System Operations and Safety, Federal Aviation Administration, 800 Independence Avenue, SW., Washington, DC 20591; telephone: (202) 267-8783.

SUPPLEMENTARY INFORMATION: On November 7, 2002, an NPRM was published in the Federal Register proposing to amend 14 Code of Federal Regulations (14 CFR) part 73 (part 73) to revise J-133 between the Sitka, AK, NDB, and the Hinchinbrook, AK, NDB (67 FR 67800). The Hinchinbrook NDB will be decommissioned and replaced with the Orca Bay NDB. The replacement of the Hinchinbrook NDB and the revision of several airways in Alaska will be reflected in a subsequent NPRM.

List of Subjects in 14 CFR part 71

Airspace, Incorporation by reference, Navigation (air).

The Withdrawal

In consideration of the foregoing, the NPRM for FAA Docket No. FAA-2002-13247 and Airspace Docket No. 02-AAL-5, as published in the Federal Register on November 7, 2002 (67 FR 67800), is hereby withdrawn.

Authority: 49 U.S.C. 106(g), 40103, 40113, 40120; E.O. 10854; 24 FR 9565, 3 CFR, 1959-1963 Comp., p. 389.

Issued in Washington, DC, on October 21, 2004.
Reginald C. Matthews,
Manager, Airspace and Rules.

[FR Doc. 04-24145 Filed 10-28-04; 8:45 am]

BILLING CODE 4910-13-P